DEPARTMENT OF THE TREASURY

Internal Revenue Service

26 CFR Part 1

[REG-111119-99]

RIN 1545-AX32

Partnership Mergers and Divisions; Hearing Cancellation

AGENCY: Internal Revenue Service (IRS), Treasury.

ACTION: Cancellation of notice of public hearing on proposed rulemaking.

SUMMARY: This document cancels the public hearing on proposed regulations on the tax consequences of partnership mergers and divisions.

DATES: The public hearing originally scheduled for Thursday, May 4, 2000, at 10 a.m., is cancelled.

FOR FURTHER INFORMATION CONTACT: LaNita Van Dyke of the Regulations Unit, Assistant Chief Counsel (Corporate), (202) 622-7190 (not a toll-free number).

SUPPLEMENTARY INFORMATION: A notice of proposed rulemaking and notice of public hearing that appeared in the Federal Register on Tuesday, January 11, 2000 (65 FR 1572), announced that a public hearing was scheduled for Thursday, May 4, 2000, at 10 a.m., in room 2615, Internal Revenue Building, 1111 Constitution Avenue, NW., Washington, DC. The subject of the public hearing is proposed regulations under section 708 of the Internal Revenue Code. The public comment period for these proposed regulations expired on Monday, April 10, 2000. The outlines of topics to be addressed at the hearing were due on Thursday, April 13, 2000.

The notice of proposed rulemaking and notice of public hearing, instructed those interested in testifying at the public hearing to submit a request to speak and an outline of the topics to be addressed. As of Friday, April 21, 2000, no one has requested to speak. Therefore, the public hearing scheduled for Thursday, May 4, 2000, is cancelled.

Cynthia Grigsby,
Chief, Regulations Unit, Assistant Chief Counsel (Corporate).

[FR Doc. 00-10524 Filed 4-27-00; 8:45 am]

BILLING CODE 4830-01-P